DEPARTMENT OF THE INTERIOR

National Park Service

[NPS-WASO-NAGPRA-15768; PPWOCRADN0-PCU00RP14.R50000]

Notice of Completion of Inventory of Native American Human Remains From the Hawaiian Islands in the Collections of the Peabody Museum of Natural History, Yale University; Correction

AGENCY: National Park Service, Interior.

ACTION: Notice; correction.

SUMMARY: The Peabody Museum of Natural History has corrected an inventory of human remains published in a Notice of Inventory Completion in the Federal Register on February 25, 1994. This notice corrects the minimum number of individuals. Lineal descendants or representatives of any Indian tribe or Native Hawaiian organization not identified in this notice that wish to request transfer of control of these human remains should submit a written request to the Peabody Museum of Natural History. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Peabody Museum of Natural History at the address in this notice by July 24, 2014.

ADDRESSES: Professor Derek E.G. Briggs, Director, Yale Peabody Museum of Natural History, P.O. Box 208118, New Haven, CT 06520-8118, telephone (203) 432-3752.

SUPPLEMENTARY INFORMATION: Notice is here given in accordance with the Native American Graves Protection and Repatriation Act (NAGPRA), 25 U.S.C. 3003, of the correction of an inventory of human remains under the control of the Peabody Museum of Natural History, New Haven, CT. The human remains were removed from the Hawaiian Islands.

This notice is published as part of the National Park Service's administrative responsibilities under NAGPRA, 25 U.S.C. 3003(d)(3). The determinations in this notice are the sole responsibility of the museum, institution, or Federal agency that has control of the Native American human remains. The National Park Service is not responsible for the determinations in this notice.

This notice corrects the minimum number of individuals published in a Notice of Inventory Completion in the Federal Register (59 FR 9248-9249, February 25, 1994). Subsequent inventories identified additional human remains originating from the Hawaiian Islands. Transfer of control of the items in this correction notice has not occurred.

Correction

In the Federal Register (59 FR 9248-9249, February 25, 1994), paragraph four, sentence two is corrected by substituting the following sentence:

The 1872 accession consists of eleven skulls, one nearly complete skeleton, and one calotte described in fifteen catalogue entries and is identified in the accession ledger as having been collected by George H. Dole.

Additional Requestors and Disposition

Lineal descendants or representatives of any Indian tribe or Native Hawaiian organization not identified in this notice that wish to request transfer of control of these human remains should submit a written request with information in support of the request to Professor Derek E.G. Briggs, Director, Yale Peabody Museum of Natural History, P.O. Box 208118, New Haven, CT 06520-8118, telephone (203) 432-3752, by July 24, 2014. After that date, if no additional requestors have come forward, transfer of control of the human remains to Hui Malama I Na Kupuna `O Hawai'I Nei and the Office of Hawaiian Affairs may proceed.

The Peabody Museum of Natural History is responsible for notifying the Native Hawaiian organizations that this notice has been published.

Dated: May 7, 2014.
David Tarler,
Acting Manager, National NAGPRA Program.

[FR Doc. 2014-14732 Filed 6-23-14; 8:45 am]

BILLING CODE 4312-50-P